DEPARTMENT OF ENERGY

Federal Energy Regulatory Commission

Combined Notice of Filings #1

Take notice that the Commission received the following exempt wholesale generator filings:

Docket Numbers: EG25-382-000.

Applicants: Adelite Solar, LLC.

Description: Adelite Solar, LLC submits Notice of Self-Certification of Exempt Wholesale Generator Status.

Filed Date: 7/8/25.

Accession Number: 20250708-5170.

Comment Date: 5 p.m. ET 7/29/25.

Take notice that the Commission received the following electric rate filings:

Docket Numbers: ER25-1834-003.

Applicants: Basin Electric Power Cooperative, Southwest Power Pool, Inc.

Description: Tariff Amendment: Basin Electric Power Cooperative submits tariff filing per 35.17(b): Basin Electric Power Cooperative Second Amendment to Formula Rate Revisions to be effective 1/1/2025.

Filed Date: 7/10/25.

Accession Number: 20250710-5031.

Comment Date: 5 p.m. ET 7/31/25.

Docket Numbers: ER25-2819-000.

Applicants: Ruby Solar, LLC.

Description: § 205(d) Rate Filing: Ruby Solar, LLC LLC MBR Tariff to be effective 9/8/2025.

Filed Date: 7/9/25.

Accession Number: 20250709-5155.

Comment Date: 5 p.m. ET 7/30/25.

Docket Numbers: ER25-2820-000.

Applicants: Duke Energy Florida, LLC, Duke Energy Carolinas, LLC.

Description: § 205(d) Rate Filing: Duke Energy Carolinas, LLC submits tariff filing per 35.13(a)(2)(iii: Revision to Schedule 2 of Joint OATT to Remove Bayboro Unit 3 to be effective 6/1/2025.

Filed Date: 7/10/25.

Accession Number: 20250710-5048.

Comment Date: 5 p.m. ET 7/31/25.

Docket Numbers: ER25-2821-000.

Applicants: Midcontinent Independent System Operator, Inc., Michigan Electric Transmission Company, LLC.

Description: § 205(d) Rate Filing: Michigan Electric Transmission Company, LLC submits tariff filing per 35.13(a)(2)(iii: 2025-07-10_SA 4531 METC-Alpena Power IFA to be effective 9/9/2025.

Filed Date: 7/10/25.

Accession Number: 20250710-5051.

Comment Date: 5 p.m. ET 7/31/25.

Docket Numbers: ER25-2822-000.

Applicants: Sierra Pinta Energy Storage, LLC.

Description: § 205(d) Rate Filing: Certificate of Concurrence to Shared Facilities Common Ownership Agreement to be effective 7/11/2025.

Filed Date: 7/10/25.

Accession Number: 20250710-5060.

Comment Date: 5 p.m. ET 7/31/25.

Docket Numbers: ER25-2823-000.

Applicants: NorthWestern Corporation.

Description: § 205(d) Rate Filing: SA 978—Agreement to Provide Services with PacifiCorp to be effective 6/25/2025.

Filed Date: 7/10/25.

Accession Number: 20250710-5063.

Comment Date: 5 p.m. ET 7/31/25.

Docket Numbers: ER25-2824-000.

Applicants: Brandon Shores LLC.

Description: Tariff Amendment: Notice of Cancellation of Reactive Rate Schedules to be effective 9/30/2025.

Filed Date: 7/10/25.

Accession Number: 20250710-5093.

Comment Date: 5 p.m. ET 7/31/25.

Docket Numbers: ER25-2825-000.

Applicants: H.A. Wagner LLC.

Description: Tariff Amendment: Notice of Cancellation of Reactive Rate Schedules to be effective 9/30/2025.

Filed Date: 7/10/25.

Accession Number: 20250710-5094.

Comment Date: 5 p.m. ET 7/31/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: July 10, 2025.
Carlos D. Clay,
Deputy Secretary.

[FR Doc. 2025-13227 Filed 7-14-25; 8:45 am]

BILLING CODE 6717-01-P